DEPARTMENT OF THE INTERIOR

National Park Service

[NPS-SERO-CANA-15562;PPSESEROC3, PPMPSAS1Y.YP0000]

Final Environmental Impact Statement for General Management Plan, Canaveral National Seashore, Florida

AGENCY: National Park Service, Interior.

ACTION: Notice of availability.

SUMMARY: Pursuant to Section 102(2)(C) of the National Environmental Policy Act of 1969 (NEPA), 42 U.S.C. 4332(2)(C), the National Park Service (NPS) announces the availability of the Final Environmental Impact Statement (FEIS) for the General Management Plan (GMP) for Canaveral National Seashore (Seashore). Consistent with NPS laws, regulations, and policies and the purpose of the Seashore, the FEIS/GMP will guide the management of the Seashore over the next 20+ years.

DATES: The NPS will execute a Record of Decision (ROD) no sooner than 30 days following publication by the Environmental Protection Agency of its Notice of Availability of the FEIS/GMP in the Federal Register.

ADDRESSES: Electronic copies of the FEIS/GMP will be available online at http://parkplanning.nps.gov/CANA. To request a copy, contact Superintendent Myrna Palfrey, Canaveral National Seashore, 212 S. Washington Avenue, Titusville, FL 32796. A limited number of compact disks and printed copies of the FEIS/GMP will be made available at the Canaveral National Seashore Headquarters, 212 S. Washington Avenue, Titusville, FL 32796.

SUPPLEMENTARY INFORMATION: The FEIS/GMP responds to, and incorporates, agency and public comments received on the draft EIS/GMP, which was available for public review from August 18, 2011, through October 31, 2011. Two public meetings were held during the public review period to gather input on the draft EIS/GMP. There were 26 pieces of correspondence received during the public review period. The NPS responses to substantive agency and public comments are provided in Chapter 5, Consultation and Coordination, of the FEIS/GMP.

The FEIS/GMP evaluates four alternatives for managing use and development of the Seashore:

• Alternative A is the No-Action Alternative and is the continuation of current management.

• The NPS preferred alternative is Alternative B. Under this alternative, emphasis would be placed on retaining the national seashore's relatively undeveloped character and providing uncrowded experiences by dispersing visitors via a shuttle service or canoe, kayak, hiking and walking trails, and bicycle trails. Elements of this alternative would support the resilience of the Seashore to climate change concerns, such as sea level rise, coastal erosion, and higher storm surges, all of which may affect cultural and natural resources as well as visitor experience at the Seashore.

• Under Alternative C the Seashore would be managed as a place where visitors would explore and experience a wide range of opportunities that would be designed to provide an in-depth understanding of the natural and cultural history of eastern coastal Florida. When visitors enter the Seashore, they would be presented with choices for alternative modes of access to land- and water-based natural and cultural features, appropriate recreational opportunities, and educational pursuits. Enhanced development related to recreational opportunities and educational pursuits would be pursued.

• Under Alternative D, the Seashore would be managed to focus on enhancing the existing lands, resources, and facilities. Limited facility development would provide more efficient NPS administration and operations and enhanced visitor amenities. Coordination with partners would be increased to provide additional educational opportunities and programs for visitors and enhanced monitoring of Mosquito Lagoon resources.

FOR FURTHER INFORMATION CONTACT: Superintendent Myrna Palfrey, Canaveral National Seashore, 212 S. Washington Avenue, Titusville, FL 32796; telephone (321) 267-1110.

The responsible official for this FEIS/GMP is the Regional Director, NPS Southeast Region, 100 Alabama Street SW., 1924 Building Atlanta, Georgia 30303.

Dated: June 17, 2014.
Sherri L. Fields,
Acting Regional Director, Southeast Region.

[FR Doc. 2014-16065 Filed 7-8-14; 8:45 am]

BILLING CODE 4310-JD-P